ENVIRONMENTAL PROTECTION AGENCY

40 CFR Part 52

[EPA-R06-OAR-2010-0332; FRL-9914-45-Region 6]

Approval and Promulgation of Implementation Plans; Texas; Reasonably Available Control Technology for the 1997 8-Hour Ozone National Ambient Air Quality Standard

AGENCY: Environmental Protection Agency (EPA).

ACTION: Final rule.

SUMMARY: The Environmental Protection Agency (EPA) is approving revisions to the Texas State Implementation Plan (SIP) as it applies to the volatile organic compound (VOC) sources in the offset lithographic printing source category. We are approving revisions to the regulations for this source category as they apply in the Dallas/Fort Worth (DFW), El Paso and Houston/Galveston/Brazoria (HGB) areas. These revisions are based on the recommendations for Reasonably Available Control Technology (RACT) in the Control Technique Guideline (CTG) issued in 2006 entitled, “Lithographic Printing Materials and Letterpress Printing Materials.” We are also approving the corresponding RACT analysis for this category for both the HGB and DFW 1997 8-hour ozone nonattainment areas. The EPA is approving these revisions pursuant the federal Clean Air Act (the Act, CAA) and consistent with the EPA's guidance.

DATES: This final rule is effective on September 3, 2014.

ADDRESSES: EPA has established a docket for this action under Docket ID No. EPA-R06-OAR-2010-0332. All documents in the docket are listed on the http://www.regulations.gov Web site. Although listed in the index, some information is not publicly available, e.g., Confidential Business Information or other information whose disclosure is restricted by statute. Certain other material, such as copyrighted material, is not placed on the Internet and will be publicly available only in hard copy form. Publicly available docket materials are available either electronically through http://www.regulations.gov or in hard copy at the Air Planning Section (6PD-L), Environmental Protection Agency, 1445 Ross Avenue, Suite 700, Dallas, Texas 75202-2733. To inspect the hard copy materials, please schedule an appointment with the person listed in the FOR FURTHER INFORMATION CONTACT paragraph below or Mr. Bill Deese at 214-665-7253.

FOR FURTHER INFORMATION CONTACT: Ms. Ellen Belk, Air Planning Section (6PD-L), telephone: (214) 665-2164, email address: belk.ellen@epa.gov.

SUPPLEMENTARY INFORMATION: Throughout this document “we,” “us,” and “our” refer to EPA.

Table of Contents

I. Background

II. Final Action

III. Statutory and Executive Order Reviews

I. Background

The background for today's final rule is discussed in our March 12, 2014 proposal to approve revisions to the Texas SIP (79 FR 13963). In that action, we proposed to approve one submittal in full, and portions of two separate submittals: A Texas SIP revision submitted by the Texas Commission on Environmental Quality (TCEQ) in April, 2010, which updates the regulations that apply to offset lithographic printing based on the 2006 CTG for this category, and the portions of two other Texas SIP revisions submitted by the TCEQ in April, 2010, containing a RACT analysis for this source category for the DFW and the HGB areas. The TCEQ SIP submittals we proposed to approve March 12, 2014, and which we are approving in this final action are:

(a) VOC CTG Update: CTG Category Offset Lithographic Rulemaking, adopted on March 10, 2010 and submitted April 5, 2010, providing rule revisions to 30 TAC, Chapter 115 Control of Air Pollution from Volatile Organic Compounds, Subchapter E, Division 4, “Offset Lithographic Printing” which apply to offset lithographic printing lines located in the Dallas-Fort Worth (Collin, Dallas, Denton, Ellis, Johnson, Kaufman, Parker, Rockwall, and Tarrant counties), El Paso, and Houston-Galveston-Brazoria (Brazoria, Chambers, Fort Bend, Galveston, Harris, Liberty, Montgomery and Waller counties) areas. This submittal addresses recommendations for Reasonably Available Control Technology (RACT) in the Control Technique Guideline (CTG) issued in 2006 entitled, “Lithographic Printing Materials and Letterpress Printing Materials” for the DFW and HGB areas, and also updates the rules for this source category for DFW, El Paso, and HGB.

(b) a portion of the 2010 HGB Attainment Demonstration SIP Revision for the 1997 8-hour Ozone Nonattainment Area, the RACT Analysis for the Offset Lithographic CTG Category, adopted March 10, 2010 and submitted April 6, 2010, and

(c) a portion of the 2010 DFW RACT, Rule, and Contingency SIP Revision for the 1997 8-hour Ozone Nonattainment Area, the RACT Analysis for the Offset Lithographic CTG Category, adopted March 10, 2010 and submitted April 6, 2010.

Our March 12, 2014 proposal provides a detailed description of the revisions and the rationale for EPA's proposed actions, together with a discussion of the opportunity to comment. The public comment period for these actions closed on April 11, 2014. See the Technical Support Document in the docket for this rulemaking and our proposal at 79 FR 13963 for more information. We did not receive any comments regarding our proposal. Therefore, we are finalizing our action as proposed.

II. Final Action

The EPA is approving Texas' 2010 SIP revisions for the VOC CTG source category Offset Lithographic Printing rules. We are approving revisions to the following sections within 30 TAC Chapter 115: 115.440, 115.441, 115.442, 115.443, 115.445, 115.446, and 115.449. In addition, the EPA is finding that for this CTG category Texas has RACT-level controls in place for the HGB and DFW Areas under the 1997 8-hour ozone standard. The EPA is approving these revisions in accordance with sections 110, 172(c) and 182 of the federal Clean Air Act and consistent with the EPA's guidance.

III. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by October 3, 2014. Filing a petition for reconsideration by the Administrator of this final rule does not affect the finality of this action for the purposed of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Incorporation by reference, Intergovernmental relations, Reporting and recordkeeping requirements, Volatile organic compounds.

Dated: July 18, 2014.
Samuel Coleman,
Acting Regional Administrator, Region 6.

Therefore, 40 CFR part 52 is amended as follows:

PART 52—APPROVAL AND PROMULGATION OF IMPLEMENTATION PLANS

1. The authority citation for part 52 continues to read as follows:

Authority: 42 U.S.C. 7401 et seq.

Subpart SS—Texas

2. In § 52.2270:

a. In paragraph (c), the table titled “EPA Approved Regulations in the Texas SIP” is amended by revising the entries for Sections 115.440, 115.442, 115.443, 115.445, 115.446 and 115.449 and adding a new entry in sequential order for Section 115.441.

b. In paragraph (e), the table titled “EPA Approved Nonregulatory Provisions and Quasi-Regulatory Measures in the Texas SIP” is amended by adding two entries at the end of the table for “VOC RACT finding for Lithographic Printing under the 1997 8-hour ozone NAAQS, including the 2006 EPA-issued CTG ”.

The revisions and additions read as follows:

§ 52.2270 Identification of plan.

* * * * *

(c) * * *

EPA Approved Regulations in the Texas SIP
State citation | Title/subject | State approval/ submittal date | EPA approval date | Explanation
* * * * * * *
Subchapter E—Solvent-Using Processes
* * * * * * *
Division 4: Offset Lithographic Printing
Section 115.440 | Applicability and Definitions | 3/10/2010 | 8/4/2014 [Insert Federal Register citation] |
Section 115.441 | Exemptions | 3/10/2010 | 8/4/2014 [Insert Federal Register citation] |
Section 115.442 | Control Requirements | 3/10/2010 | 8/4/2014 [Insert Federal Register citation] |
Section 115.443 | Alternate Control Requirements | 3/10/2010 | 8/4/2014 [Insert Federal Register citation] |
Section 115.445 | Approved Test Methods | 3/10/2010 | 8/4/2014 [Insert Federal Register citation] |
Section 115.446 | Monitoring and Recordkeeping Requirements | 3/10/2010 | 8/4/2014 [Insert Federal Register citation] |
Section 115.449 | Compliance Schedules | 3/10/2010 | 8/4/2014 [Insert Federal Register citation] |
* * * * * * *

* * * * *

(e) * * *

* * * * *

EPA Approved Nonregulatory Provisions and Quasi-Regulatory Measures in the Texas SIP
Name of SIP provision | Applicable geographic or non-attainment area | State submittal/ effective date | EPA approval date | Comments
* * * * * * *
VOC RACT finding for Lithographic Printing under the 1997 8-hour ozone NAAQS, including the 2006 EPA-issued CTG | Houston-Galveston-Brazoria (Brazoria, Chambers, Fort Bend, Galveston, Harris, Liberty, Montgomery and Waller Counties, TX) | 4/6/2010 | 8/4/2014 [Insert Federal Register citation] | HGB as Severe.
VOC RACT finding for Lithographic Printing under the 1997 8-hour ozone NAAQS, including the 2006 EPA-issued CTG | Dallas-Fort Worth (Collin, Dallas, Denton, Ellis, Johnson, Kaufman, Parker, Rockwall, and Tarrant Counties, TX) | 4/6/2010 | 8/4/2014 [Insert Federal Register citation] | DFW as Moderate and Serious.

* * * * *

[FR Doc. 2014-18182 Filed 8-1-14; 8:45 am]

BILLING CODE 6560-50-P